GENERAL SERVICES ADMINISTRATION

41 CFR Parts 301-12, 301-13, and 301-70

[FTR Amendment 2006-03; FTR Case 2006-303]

RIN 3090-AI24

Federal Travel Regulation; Travel of an Employee with Special Needs—Services of Attendants

AGENCY: Office of Governmentwide Policy, General Services Administration (GSA).

ACTION: Final rule.

SUMMARY: The General Services Administration (GSA) is amending the Federal Travel Regulation (FTR), to clarify existing authority under the Rehabilitation Act of 1973, as amended, 29 U.S.C. 701-796l, and 5 U.S.C. 3102, that allows agencies to reimburse employees with special needs for expenses incurred for the services of an attendant while on official travel. Specifically, this final rule amends the FTR by adding reimbursement for “services of an attendant traveling with an employee with special needs” as a miscellaneous expense item. The FTR and any corresponding documents may be accessed at GSA's website at http://www.gsa.gov/ftr.

DATES: Effective Date: This final rule is effective April 26, 2006.

FOR FURTHER INFORMATION CONTACT: The Regulatory Secretariat (VIR), Room 4035, GS Building, Washington, DC, 20405, (202) 208-7312, for information pertaining to status or publication schedules. For clarification of content, contact Umeki Thorne, Office of Governmentwide Policy, Travel Management Policy, at (202) 208-7636. Please cite FTR Amendment 2006-03; FTR case 2006-303.

SUPPLEMENTARY INFORMATION:

A. Background

In order to provide reasonable accommodations for travel of an employee with special needs, agencies are authorized to pay for a variety of travel expenses as needed by the employee. Allowable expenses include the transportation and per diem expenses incurred by a family member or other attendant who must travel with the employee to make the trip possible. Although authorized by existing statutes, the FTR has not included a provision expressly addressing whether or not agencies may reimburse employees for expenses incurred for the actual services performed by an attendant while on travel with the employee. Accordingly, this final rule adds a provision stating that agencies may reimburse employees for the expenses of an attendant as a miscellaneous travel expense.

B. Executive Order 12866

This is not a significant regulatory action and, therefore, was not subject to review under Section 6(b) of Executive Order 12866, Regulatory Planning and Review, dated September 30, 1993. This rule is not a major rule under 5 U.S.C. 804.

C. Regulatory Flexibility Act

This final rule is not required to be published in the Federal Register for notice and comment; therefore, the Regulatory Flexibility Act, 5 U.S.C. 601, et seq., does not apply.

D. Paperwork Reduction Act

The Paperwork Reduction Act does not apply because the changes to the FTR do not impose recordkeeping or information collection requirements, or the collection of information from offerors, contractors, or members of the public that require the approval of the Office of Management and Budget under 44 U.S.C. 3501, et seq.

E. Small Business Regulatory Enforcement Fairness Act

This final rule is also exempt from congressional review prescribed under 5 U.S.C. 801 since it relates solely to agency management and personnel.

List of Subjects in 41 CFR Parts 301-12, 301-13, and 301-70

Government employees, Travel and transportation expenses.

Dated: March 7, 2006.
David L. Bibb,
Acting Administrator of General Services.

For the reasons set forth in the preamble, under 5 U.S.C. 5701-5709, GSA amends 41 CFR parts 301-12, 301-13, and 301-70 as set forth below:

PART 301-12—MISCELLANEOUS EXPENSES

1. The authority citation for 41 CFR part 301-12 continues to read as follows:

Authority: Authority: 5 U.S.C. 5707.

§ 301-12.1 [Amended]

2. Amend section 301-12.1, in the table, in the first column under the heading “General expenses”, by adding the entry “Services of an attendant as described in § 301-13.3” after the entry “Services of guides, interpreters, and drivers”.

PART 301-13—TRAVEL OF AN EMPLOYEE WITH SPECIAL NEEDS

3. The authority citation for 41 CFR part 301-13 continues to read as follows:

Authority: Authority: 5 U.S.C. 5707.

4. Amend section 301-13.3 by revising the introductory sentence, paragraphs (e) and (f); and adding paragraph (g), and Note to paragraph (g) to read as follows:

§ 301-13.3 What additional travel expenses may my agency pay under this part?

Your agency approving official may pay for any expenses deemed necessary by your agency to accommodate an employee with a special need including, but not limited to, the following expenses:

(e) Renting and/or transporting a wheelchair;

(f) Premium-class accommodations when necessary to accommodate your special need, under Subpart B of Part 301-10 of this subchapter; and

(g) Services of an attendant, when necessary, to accommodate your special need.

Note to § 301-13.3(g): For limits on the amount that may be paid to an attendant, other than travel expenses, see 5 U.S.C. 3102 and guidance at http://www.opm.gov/disability/mngr_6-01-B.asp.

PART 301-70—INTERNAL POLICY AND PROCEDURE REQUIREMENTS

5. The authority citation for 41 CFR part 301-70 continues to read as follows:

Authority: Authority: 5 U.S.C. 5707; 40 U.S.C. 121(c); Sec. 2, Pub. L. 105-264, 112 Stat. 2350 (5 U.S.C. 5701 note), Office of Management and Budget Circular No. A-126, “Improving the Management and Use of Government Aircraft.” Revised May 22, 1992.

6. Revise section 301-70.400 to read as follows:

§ 301-70.400 How should we authorize and administer the payment of additional travel expenses for an employee with a disability or special need?

You should authorize and administer the payment to reasonably accommodate employee(s) with disabilities in accordance with the Rehabilitation Act of 1973, as amended (29 U.S.C. 701-796l) and 5 U.S.C. 3102 and Part 301-13 of this chapter. An employee with a special need should be treated the same as an employee with a disability. You must determine that additional travel expenses are necessary to accommodate the employee's needs.

[FR Doc. 06-3913 Filed 4-25-06; 8:45 am]

BILLING CODE 6820-14-S